NUCLEAR REGULATORY COMMISSION

[Docket No. 40-8027-MLA-9 and ASLBP No. 04-824-06-MLA]

Sequoyah Fuels Corporation; Establishment of Atomic Safety and Licensing Board

Pursuant to delegation by the Commission dated December 29, 1972, published in the Federal Register, 37 FR 28,710 (1972), and the Commission's regulations, see 10 CFR 2.104, 2.300, 2.303, 2.309, 2.311, 2.318, and 2.321, notice is hereby given that an Atomic Safety and Licensing Board is being established to preside over the following proceeding: Sequoyah Fuels Corporation, Gore, Oklahoma Site, (Materials License Amendment).

This proceeding concerns a request for hearing submitted on May 17, 2004, by the State of Oklahoma. That request was filed in response to a March 10, 2004 notice of receipt of a January 7, 2004 materials amendment request from Sequoyah Fuels Corporation to authorize a proposed raffinate dewatering project at its Gore, Oklahoma facility site, and of opportunity for a hearing which was published in the Federal Register on March 17, 2004 (69 FR 12,715).

The Board is comprised of the following administrative judges: Alan S. Rosenthal, Chair, Atomic Safety and Licensing Board Panel, U.S. Nuclear Regulatory Commission, Washington, DC 20555-0001. Dr. Anthony J. Baratta, Atomic Safety and Licensing Board Panel, U.S. Nuclear Regulatory Commission, Washington, DC 20555-0001. Dr. Richard F. Cole, Atomic Safety and Licensing Board Panel, U.S. Nuclear Regulatory Commission, Washington, DC 20555-0001.

All correspondence, documents, and other materials shall be filed with the administrative judges in accordance with 10 CFR 2.302.

Issued at Rockville, Maryland, this 25th day of June 2004.
G. Paul Bollwerk, III,
Chief Administrative Judge, Atomic Safety and Licensing Board Panel.

[FR Doc. 04-14905 Filed 6-30-04; 8:45 am]

BILLING CODE 7590-01-P